DEPARTMENT OF THE INTERIOR

Bureau of Land Management

[OR-027-1220-DG; G 1-0314]

Meeting Notice

AGENCY: Bureau of Land Management (BLM), Burns District.

ACTION: Meeting Notice for the Steens Mountain Advisory Council.

SUMMARY: The Steens Mountain Advisory Council (SMAC) will meet at the Bureau of Land Management (BLM), Burns District Office, HC 74-12533 Hwy 20 West, Hines, Oregon 97738, 8:00 a.m. to 5:00 p.m., local time, on October 22, 2001, and 8:00 a.m. to 4:00 p.m., local time, on October 23, 2001. The SMAC was appointed by the Secretary of Interior on August 14, 2001, pursuant to the Steens Mountain Cooperative Management and Protection Act of 2000 (Act). The SMAC's purpose is to provide representative counsel and advice to the BLM regarding (1) new and unique approaches to management of the land within the bounds of the Steens Mountain Cooperative Management and Protection Area (CMPA), (2) cooperative programs and incentives for landscape management that meet human needs, maintain and improve the ecological and economic integrity of the area, and (3) preparation and implementation of a management plan for the CMPA. This will be the first meeting of the SMAC. Topics to be discussed by the SMAC include operating procedures, establishing meeting guides, Charter, roles and responsibilities, Federal Advisory Committee Act/Management, selection of a chairperson, Federal travel regulations, forming of subcommittees, facilitation needs, actions taken by BLM to implement the Act, Resource Management Plan/Environmental Impact Statement contracting and planning process, Steens Mountain Cooperative Management and Protection Act of 2000, future meeting dates and other matters as may reasonably come before the SMAC. The entire meeting is open to the public. Information to be distributed to the SMAC is requested 10 days prior to the start of the SMAC meeting. Public comment is scheduled for 11:00 a.m. to 11:30 a.m., local time, on October 22, 2001.

FOR FURTHER INFORMATION CONTACT: Additional information concerning the SMAC may be obtained from Rhonda Karges, Management Support Specialist, Burns District Office, HC 74-12533 Hwy 20 West, Hines, Oregon 97738, (541) 573-4433, or Rhonda_Karges@or.blm.gov or from the following web site http://www.or.blm.gov/Steens.

Dated: September 6, 2001.
Miles R. Brown,
Andrews Resource Area Field Manager.

[FR Doc. 01-24445 Filed 9-28-01; 8:45 am]

BILLING CODE 4310-33-P